DEPARTMENT OF COMMERCE

National Oceanic and Atmospheric Administration

50 CFR Part 660

[Docket No. 171030999-8375-01]

RIN 0648-BH34

Magnuson-Stevens Act Provisions; Fisheries Off West Coast States; Pacific Coast Groundfish Fishery; Shorebased Individual Fishing Quota Program

AGENCY: National Marine Fisheries Service (NMFS), National Oceanic and Atmospheric Administration (NOAA), Commerce.

ACTION: Advanced notice of proposed rulemaking; request for comments.

SUMMARY: This notice provides information on a request by the Pacific Fishery Management Council (Council) to establish a control date of September 15, 2017, for the Pacific Coast groundfish fishery. The Council may use the control date to limit the extent, location, or ability to use non-trawl gear types to harvest individual fishing quota (IFQ) (termed `gear switching') in the Pacific Coast groundfish fishery. The Council may or may not provide credit for any gear switching related activities after the control date in any decision setting limits on gear switching. The control date would account for Pacific Coast groundfish fishery participants with historic investment to engage in gear switching should the Council set limits to future participants eligible to gear switch.

DATES: Written comments must be received by May 29, 2018.

ADDRESSES: You may submit comments on the proposed rule identified by “NOAA-NMFS-2018-0015” by either of the following methods:

• Electronic Submission: Submit all electronic public comments via the Federal e-Rulemaking Portal. Go to www.regulations.gov/#!docketDetail;D=NOAA-NMFS-2018-0015, click the “Comment Now!” icon, complete the required fields, and enter or attach your comments.

• Mail: Submit written comments to Frank Lockhart, NMFS West Coast Regional Office, 7600 Sand Point Way NE, Seattle, WA 98115.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Colin Sayre, NMFS West Coast Regional Office, telephone: 206-526-4656, or email: colin.sayre@noaa.gov.

SUPPLEMENTARY INFORMATION: The National Marine Fisheries Service (NMFS) implemented the West Coast Groundfish Trawl Catch Share Program on January 11, 2011. The Catch Share Program changed harvest management in the trawl fishery from a trip limit system, with cumulative vessel trip limits, to a quota system where vessels can harvest quota shares at any time during an open season. The Catch Share Program offers industry increased flexibility in exchange for additional monitoring and data collection requirements.

The Magnuson-Stevens Fishery Conservation and Management Act requires that fishery management councils review catch share programs within five years after implementation. The Council's first five-year Catch Share Program review concluded in November 2017. As part of response to this review, the Council is considering changing the gear switching provision in the shorebased trawl IFQ component of the Catch Share Program.

The Council originally included gear switching in the Catch Share Program to provide flexibility to trawl harvesters. Gear switching allows vessels to use any legal non-trawl gear type to prosecute the shorebased trawl IFQ fishery. About two-thirds of shorebased IFQ vessels that have taken advantage of the gear switching provision used fixed gear (pots and longlines) prior to Catch Share Program implementation in 2011, and typically used these gears to target sablefish. The remaining vessels operating under the gear switching provision had not fished in the shorebased IFQ trawl fishery prior to Catch Share Program implementation, and purchased or leased trawl permits and sablefish quota to fish with fixed gear after 2011. The Catch Share Program five-year review identified gear switching as a concern for many participants of the shorebased IFQ trawl fishery. Trawl vessels expressed concern that fixed gear vessels targeting sablefish in the shorebased IFQ fishery both depleted sablefish quota and constrained the trawl fishery before vessels were able to attain quotas for other target species that co-occur with sablefish.

At its September 2017 meeting, the Council developed alternatives to limit the amount of quota available to vessels that are gear switching, and the number of participants eligible to continue gear switching activity. The Council also voted to set a control date of September 15, 2017, to account for participants' financial investment to engage in gear switching in the shorebased IFQ trawl fishery. By establishing this control date, the Council is notifying industry that it may not provide credit for gear switching related activity after this date, in the event that it adopts restrictions on gear switching.

This announcement does not commit the Council or NMFS to any particular action or outcome. The Council may or may not use the control date as part of any deliberations and decisions on gear switching. The Council may also choose to take no further action.

Authority: 16 U.S.C. 1801 et seq., 16 U.S.C. 773 et seq., and 16 U.S.C. 7001 et seq.

Dated: April 23, 2018.
Samuel D. Rauch, III,
Deputy Assistant Administrator for Regulatory Programs, National Marine Fisheries Service.

[FR Doc. 2018-08761 Filed 4-25-18; 8:45 am]

BILLING CODE 3510-22-P